DEPARTMENT OF DEFENSE

Department of the Army

Prospective Grant of Exclusive Patent License

AGENCY: Department of the Army, DoD.

ACTION: Notice.

SUMMARY: In accordance with 35 U.S.C. 209 and 37 CFR 404.7, U.S. Army Soldier and Biological Chemical Command (SBCCOM) hereby gives notice that it is contemplating the grant of an exclusive license in the United States to practice the below referenced inventions owned by the U.S. Government to Genencor International Inc., a Delaware Corporation with principal offices at 200 Meridian Center Blvd., Rochester, New York 14612.

FOR FURTHER INFORMATION CONTACT: Mr. John Biffoni, Intellectual Property Attorney, U.S. Army Soldier and Biological Chemical Command, ATTN: AMSSB-CC (Bldg E4435), Aberdeen Proving Ground, MD 21010-5424, Phone: (410) 436-1158; Fax: 410-436-2534 or e-mail: John.Biffoni@sbccom.apgea.army.mil.

SUPPLEMENTARY INFORMATION: The prospective exclusive license may be granted, unless SBCCOM receives written evidence and argument to establish that the grant of the license would not be consistent with the requirements of 35 U.S.C. 209 and 37 CFR 404.7 on or before October 27, 2003. The following Patent Numbers, Titles and Issue dates are provided:

1. Title: “Enzymatic Detoxification of Organophosphorus Compounds”.

Description: The present invention relates to the expression of a recombinant bacterial enzyme which is useful for detoxifying cholinesterase-inhibiting organophosphorus compounds such as pesticides and chemical nerve agents and the decontamination of substances contaminated with these compounds.

Patent Number: 5,928,927.

Issue Date: July 27, 1999.

2. Title: “One-step Purification Process for Organophosphorus Hydrolase Enzyme”.

Description: The present invention relates to an improved and simplified process for purifying organophosphorus hydrolase enzyme (“OPH”) from a recombinant host cell, that expresses this enzyme.

Patent Number: 6,469,145.

Issue Date: October 22, 2002.

3. Title: “Enzymatic Detoxification of Organophosphorus Compounds”.

Description: The present invention relates to the expression of a recombinant bacterial enzyme which is useful for detoxifying cholinesterase-inhibiting organophosphorus compounds such as pesticides and chemical nerve agents and the decontamination of substances contaminated with these compounds.

Patent Number: 6,080,566.

Issue Date: June 27, 2000.

Luz D. Ortiz,
Army Federal Register Liaison Officer.

[FR Doc. 03-25760 Filed 10-9-03; 8:45 am]

BILLING CODE 3710-08-M